DEPARTMENT OF TRANSPORTATION

Surface Transportation Board

[Docket No. FD 35549]

Canadian Pacific Railway Company—Trackage Rights Exemption—Consolidated Rail Corporation

Pursuant to a written trackage rights agreement,¹ Consolidated Rail Corporation (CRC) will agree to grant overhead trackage rights to Canadian Pacific Railway Company (CP) over CRC's Foreman Wye between the connection with Norfolk Southern Railway Company's (NS) Detroit District Subdivision at or near NS milepost 5.2± and a connection with CSX Transportation, Inc.'s (CSXT) Detroit Subdivision at or near CSXT milepost CH 5.0± in the vicinity of Fort Street, a distance of approximately 1,980 feet, in Wayne County, Mich. (the Line).

¹ A redacted version of the draft trackage rights agreement between CRC and CP was filed with the notice of exemption. The unredacted version, as required by 49 CFR 1180.6(a)(7)(ii), was concurrently filed under seal along with a motion for protective order. The motion is being addressed in a separate decision.

The earliest this transaction may be consummated is October 1, 2011, the effective date of the exemption (30 days after the exemption was filed).

According to CP, the purpose of the transaction is to allow for a more efficient routing of CP's trains into CP's intermodal facility at Oak Yard in Detroit, Mich. To improve operational efficiency, CP wishes to move in its own trains the Port of Vancouver intermodal freight (POV freight) currently handled by CSXT under a switching support agreement from NS's Oakwood Yard to CP's intermodal facility. To handle the POV freight from Oakwood Yard to its intermodal facility at Oak Yard in its own trains, CP asserts that it will need to acquire trackage rights over the Line to connect with its trackage rights over CSXT's Detroit Subdivision between milepost CH 5.0± and milepost CH 13.5± at Oak Yard.²

² In a related concurrent filing in Canadian Pacific Railway—Trackage Rights Exemption— CSX Transportation, Inc., FD 35548, CP seeks authority to acquire trackage rights over approximately 2.5 miles of CSXT's Detroit Subdivision between milepost CH 5.0± and milepost CH 7.5±. In Canadian Pacific Railway—Trackage Rights Exemption—CSX Transportation, Inc., FD 34033 (STB served May 31, 2001), CP acquired trackage rights over CSXT's Detroit Subdivision between milepost CH 7.5± and milepost 13.5±.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by September 23, 2011 (at least 7 days before the exemption becomes effective).

An original and 10 copies of all pleadings, referring to Docket No. FD 35549, must be filed with the Surface Transportation Board, 395 E Street, SW., Washington, DC 20423-0001. In addition, a copy of each pleading must be served on W. Karl Hansen, Leonard, Street and Deinard, Professional Association, 150 South Fifth Street, Suite 2300, Minneapolis, MN 55402 (Counsel for CP).

Board decisions and notices are available on our Web site at http://www.stb.dot.gov.

Decided: September 13, 2011.
By the Board.
Rachel D. Campbell,
Director, Office of Proceedings.
Jeffrey Herzig,
Clearance Clerk.

[FR Doc. 2011-23812 Filed 9-15-11; 8:45 am]

BILLING CODE 4915-01-P